INTERNATIONAL TRADE COMMISSION

Sunshine Act Meeting

AGENCY HOLDING THE MEETING: United States International Trade Commission.

TIME AND DATE: March 17, 2000 at 11:00 a.m.

STATUS: Open and closed to the public.

MATTERS TO BE CONSIDERED:

1. Agenda for future meeting: none.

2. Minutes.

3. Ratification List.

4. Inv Nos. 701-TA-267-268 and 731-TA-297-299 and 304-305 (Review) (Porcelain-on-Steel Cooking Ware from China, Mexico, and Taiwan; and Top-of-the-Stove Stainless Steel Cooking Ware from Korea and Taiwan)—briefing and vote. (The Commission will transmit its determination to the Secretary of Commerce on March 30, 2000.)

5. Outstanding action jackets:

(1) Document No. (E)GC-00-001: Administrative matters.

Pursuant to 5 U.S.C. 552b(c) and Commission rule 19 CFR 201.36(b), the Commission has unanimously determined to close agenda item 5 of the meeting of Friday, March 17, 2000, to public observation, in order to avoid disclosure of information of a personal nature which would constitute a clearly unwarranted invasion of personal privacy. The General Counsel has certified that a portion of the meeting is being properly closed to the public by the Commission. Persons permitted to attend this closed portion of the meeting include Commissioners, their staff, and other Commission personnel who need to be available for the discussion or to conduct the meeting. The Commission determined that earlier announcement of this meeting was not possible

In accordance with Commission policy, subject matter listed above, not disposed of at the scheduled meeting, may be carried over to the agenda of the following meeting.

Issued: March 13, 2000.
By order of the Commission.
Donna R. Koehnke,
Secretary.

[FR Doc. 00-6531 Filed 3-13-00; 2:08 pm]

BILLING CODE 7020-02-M